FEDERAL MARITIME COMMISSION

Ocean Transportation Intermediary License Reissuances

Notice is hereby given that the following Ocean Transportation Intermediary licenses have been reissued by the Federal Maritime Commission pursuant to section 19 of the Shipping Act of 1984, as amended by the Ocean Shipping Reform Act of 1998 (46 U.S.C. app. 1718) and the regulations of the Commission pertaining to the licensing of Ocean Transportation Intermediaries, 46 CFR part 515.

License No. | Name/address | Date reissued
3189F | All Express Cargo Inc., 114-16 Rockaway Blvd., South Ozone Park, NY 11420 | March 27, 2002
14289N | BCR Freight (USA) Inc., 161 West Victoria Street, Suite 240, Long Beach, CA 90805 | April 12, 2002

Sandra L. Kusumoto,
Director, Bureau of Consumer Complaints and Licensing.

[FR Doc. 02-15477 Filed 6-18-02; 8:45 am]

BILLING CODE 6730-01-P